DEPARTMENT OF AGRICULTURE

Cooperative State Research, Education, and Extension Service

Notice of Intent To Extend a Currently Approved Information Collection

AGENCY: Cooperative State Research, Education, and Extension Service, USDA.

ACTION: Notice and request for comments.

SUMMARY: In accordance with the Office of Management and Budget (OMB) regulations (5 CFR part 1320) that implement the Paperwork Reduction Act of 1995 (44 U.S.C. Chapter 35), this notice announces the Cooperative State Research, Education, and Extension Service's (CSREES) intention to request approval for an extension of a currently approved information collection for Children, Youth, and Families at Risk (CYFAR).

DATES: Written comments on this notice must be received by June 9, 2008 to be assured of consideration. Comments received after that date will be considered to the extent practicable.

ADDRESSES: You may submit comments by any of the following methods:

Federal eRulemaking Portal: http:// regulations.gov. Follow the instructions for submitting comments.

E-mail: jhitchcock@csrees.usda.gov;

Mail: Jason Hitchcock, Information Systems and Technology Management, USDA/CSREES, STOP 2216, 1400 Independence Avenue, SW., Washington, DC 20250-2216;

Hand Delivery/Courier: Jason Hitchcock, Information Systems and Technology Management, USDA/CSREES, 800 9th Street, SW., Room 4217, Waterfront Centre, Washington, DC 20024.

FOR FURTHER INFORMATION CONTACT: Jason Hitchcock, (202) 720-4343.

SUPPLEMENTARY INFORMATION:

Title: Children, Youth, and Families at Risk (CYFAR) Year-End Report.

OMB Number: 0524-0043.

Expiration Date of Current Approval: January 31, 2009.

Type of Request: Intent to seek approval for the extension of a currently approved information collection for three years.

Abstract: Funding for the Children, Youth, and Families at Risk (CYFAR) community project grants is authorized under section 3(d) of the Smith-Lever Act (7 U.S.C. 341 et seq.), as amended, and other relevant authorizing legislation, which provides jurisdictional basis for the establishment and operation of Extension educational work for the benefit of youth and families in communities. The CYFAR funding program supports community-based programs serving children, youth, and families in at-risk environments. CYFAR funds are intended to support the development of high-quality, effective programs based on research and to document the impact of these programs on intended audiences.

The CYFAR Year-End Report collects demographic and impact data from each community site where federal assistance is provided. It allows CSREES staff to gauge the impact of the program on the target audience and to make programmatic improvements. This collection also allows program staff to demonstrate the capacity developed in locales where federal assistance is provided.

The evaluation processes of CYFAR are consistent with the requirements of legislation and OMB requirements. The Government Performance and Results Act of 1993 (GPRA)(31 U.S.C. 1101 et seq.), the Federal Activities Inventory Reform Act of 1998 (FAIR Act) (Pub. L. 105-270), and the Agricultural Research, Extension, and Education Reform Act of 1998 (AREERA) (7 U.S.C. 7601 et seq.; Pub. L. 105-185), together with OMB requirements, support the reporting requirements requested in this information collection. One of the five Presidential Management Agenda initiatives, Budget and Performance Integration, builds on GPRA and earlier efforts to identify program goals and performance measures, and link them to the budget process. The FAIR Act requires the development and implementation of a system to monitor and evaluate agricultural research and extension activities in order to measure the impact and effectiveness of research, extension, and education programs. AREERA requires a performance evaluation to be conducted to determine whether federally funded agricultural research, extension, and education programs result in public goods that have national or multistate significance.

The immediate need for this information collection is to provide a means for satisfying accountability requirements. The long-term objective is to provide a means to enable the evaluation and assessment of the effectiveness of programs receiving federal funds and to fully satisfy requirements of performance and accountability legislation in GPRA, the FAIR Act, and AREERA.

Estimate of Burden: There are currently CYFAR projects in 48 states and 3 territories. Each state and territory is required to submit an annual year-end report which includes demographic and impact data on each of the community projects. CSREES estimates the burden of this collection to be 322 hours per response. There are currently 51 respondents, thus making the total annual burden of this collection an estimated 16,422 hours.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Obtaining a Copy of the Information Collection: A copy of the information collection and related instructions may be obtained free of charge by contacting Jason Hitchcock by telephone, (202) 720-4343, or by e-mail, jhitchcock@csrees.usda.gov.

Done in Washington, DC, this 4th day of April, 2008.
Gale Buchanan,
Undersecretary, Research, Education, and Economics.

[FR Doc. E8-7619 Filed 4-9-08; 8:45 am]

BILLING CODE 3410-22-P